DEPARTMENT OF HOUSING AND URBAN DEVELOPMENT

[Docket No. FR-5747-C-03]

Public Housing Assessment System (PHAS) Capital Fund Final Scoring Notice: Reinstitution of Five Points for Occupancy Sub-Indicator; Correction

AGENCY: Office of General Counsel, HUD.

ACTION: Notice; technical correction.

SUMMARY: On July 2, 2014, HUD published a notice that made final an earlier notice published on December 16, 2013, for public comment. The December 16, 2013, notice was entitled “Public Housing Assessment System (PHAS) Capital Fund Interim Scoring Notice: Reinstitution of Five Points for Occupancy Sub-Indicator and Request for Comment.” These notices pertain to the scoring of PHAs by HUD and have the effect of reinstating, temporarily, the automatic award of 5 points for the occupancy sub-indicator of the Capital Fund Program Indicator to all PHAs that passed a basic threshold scoring level for the Public Housing Assessment System (PHAS) Capital Fund Program Indicator. However, in the July 2, 2014, notice HUD inadvertently failed to revise the title of the notice by replacing “interim” with “final” and by removing the phrase “and Request for Comment.” Since the July 2, 2014, notice is final and does not request public comments, the title may be misleading to the public. HUD, therefore, is publishing today's notice to correct its July 2, 2014, notice.

SUPPLEMENTARY INFORMATION:

I. Background

On December 16, 2013, (78 FR 76160), HUD published a notice proposing for public comment its intent to reinstitute, temporarily, the award of 5 points for the occupancy sub-indicator of the Capital Fund Program Indicator to all PHAs for the PHAS Capital Fund Program Indicator. On July 2, 2014, (79 FR 37766), HUD published a final notice addressing the public comments received and implementing the 5 point award. In the July 2, 2014, notice, HUD should have revised the title to substituting “final” for “interim” and removing the indication that public comments were requested. Public comments were received and considered after publication of the December 16, 2013, notice on the same subject, and are not solicited in the July 2, 2014, notice.

II. Correction

This notice advises that the title of the July 2, 2014, notice is corrected to read: “Public Housing Assessment System (PHAS) Capital Fund Final Scoring Notice: Reinstitution of Five Points for Occupancy Sub-Indicator.”

Date: July 21, 2014.
Aaron Santa Anna,
Assistant General Counsel for Regulations.

[FR Doc. 2014-17463 Filed 7-23-14; 8:45 am]

BILLING CODE 4210-67-P